DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the name of three individuals and three entities that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Compliance, tel.: 202-622-2490.

SUPPLEMENTARY INFORMATION:

Electronic Availability

The Specially Designated Nationals and Blocked Persons List and additional information concerning OFAC sanctions programs are available on OFAC's website (https://www.treasury.gov/ofac).

Notice of OFAC Action

On May 28, 2024, OFAC determined that the property and interests in property subject to U.S. jurisdiction of the following individuals and entities are blocked under the relevant sanctions authority listed below.

BILLING CODE 4810-AL-P

Individuals

Entities

1. LILY SUITES COMPANY LIMITED, 198/31 Moo 9 Bang Lamung, Chon Buri 20150, Thailand; 198/29 Moo 9, Bang Lamung, Chon Buri 20150, Thailand; Registration Number 0205555023446 (Thailand) issued 30 Jul 2012 [CYBER2].

Designated pursuant to E.O. 13694, as amended, for being owned or controlled by, or for having acted or purported to act for on behalf of, directly or indirectly, Yunhe Wang, a person whose property and interests in property are blocked pursuant to E.O. 13694, as amended.

2. SPICY CODE COMPANY LIMITED, 17/11 Moo 4 Bang Lamung, Chon Buri 20150, Thailand; Registration Number 0205563024758 (Thailand) issued 07 Aug 2020 [CYBER2].

Designated pursuant to E.O. 13694, as amended, for being owned or controlled by, or or for having acted or purported to act for on behalf of, directly or indirectly, Yunhe Wang, a person whose property and interests in property are blocked pursuant to E.O. 13694, as amended.

3. TULIP BIZ PATTAYA GROUP COMPANY LIMITED, 198/29 Moo 9, Bang Lamung, Chon Buri 20150, Thailand; Registration Number 0205555018299 (Thailand) issued 13 Jun 2012 [CYBER2].

Designated pursuant to E.O. 13694, as amended, for being owned or controlled by, or or for having acted or purported to act for on behalf of, directly or indirectly, Yunhe Wang, a person whose property and interests in property are blocked pursuant to E.O. 13694, as amended.

Bradley T. Smith,
Director, Office of Foreign Assets Control, U.S. Department of the Treasury.

[FR Doc. 2024-12206 Filed 6-3-24; 8:45 am]

BILLING CODE 4810-AL-C